DEPARTMENT OF TRANSPORTATION

Federal Aviation Administration

14 CFR Part 39

[Docket No. FAA-2011-0158; Directorate Identifier 2010-NM-118-AD]

RIN 2120-AA64

Airworthiness Directives; The Boeing Company Model 767-200, -300, -300F, and -400ER Series Airplanes

AGENCY: Federal Aviation Administration (FAA), Department of Transportation (DOT).

ACTION: Notice of proposed rulemaking (NPRM).

SUMMARY: The FAA proposes to supersede an existing airworthiness directive (AD) that applies to certain Model 767-200, -300, -300F, and -400ER series airplanes. The existing AD currently requires an inspection to determine if certain motor operated valve actuators for the fuel tanks are installed, and related investigative and corrective actions if necessary. This proposed AD would add airplanes and, for certain airplanes, require additional inspections to determine if certain motor operated valve actuators for the fuel tanks are installed, and related investigative and corrective actions if necessary. This proposed AD results from fuel system reviews conducted by the manufacturer. We are proposing this AD to prevent an ignition source inside the fuel tanks, which, in combination with flammable fuel vapors, could result in a fuel tank explosion and consequent loss of the airplane.

DATES: We must receive comments on this proposed AD by April 28, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Douglas Bryant, Aerospace Engineer, Propulsion Branch, ANM-140S, FAA, Seattle Aircraft Certification Office, 1601 Lind Avenue SW., Renton, Washington 98057-3356; telephone 425-917-6505; fax 425-917-6590; e-mail douglas.n.bryant@faa.gov.

SUPPLEMENTARY INFORMATION:

Comments Invited

We invite you to send any written relevant data, views, or arguments about this proposed AD. Send your comments to an address listed under the ADDRESSES section. Include “Docket No. FAA-2011-0158; Directorate Identifier 2010-NM-118-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On October 19, 2009, we issued AD 2009-22-13, amendment 39-16066 (74 FR 55755, October 29, 2009), for certain Boeing Model 767-200, -300, -300F, and -400ER series airplanes. That AD requires an inspection to determine if certain motor operated valve (MOV) actuators for the fuel tanks are installed, and related investigative and corrective actions if necessary. That AD resulted from fuel system reviews conducted by the manufacturer. We issued that AD to prevent an ignition source inside the fuel tanks, which, in combination with flammable fuel vapors, could result in a fuel tank explosion and consequent loss of the airplane.

Actions Since Existing AD Was Issued

Since we issued AD 2009-22-13, Boeing issued a revision to Boeing Alert Service Bulletin 767-28A0090, dated July 3, 2008 (which was referenced as a source of service information in AD 2009-22-13). Boeing Service Bulletin 767-28A0090, Revision 2, dated September 2, 2010, corrects the group configuration assignment for certain airplanes, adds airplanes to the effectivity, and adds additional work for certain airplanes that accomplished Boeing Alert Service Bulletin 767-28A0090, dated July 3, 2008; or Boeing Service Bulletin 767-28A0090, Revision 1, dated April 1, 2010. The actions described in Boeing Service Bulletin 767-28A0090, Revision 2, dated September 2, 2010, are similar to those described in Boeing Alert Service Bulletin 767-28A0090, dated July 3, 2008.

The airplanes that were assigned to the wrong group configuration (Group 3 instead of Group 2) and accomplished the requirements of AD 2009-22-13 in accordance with Boeing Alert Service Bulletin 767-28A0090, dated July 3, 2008, need to do additional inspections to determine if certain motor operated valve actuators for the fuel tanks are installed, and related investigative and corrective actions if necessary, in accordance with Boeing Service Bulletin 767-28A0090, Revision 2, dated September 2, 2010 (the new group configuration has more work packages than the old group configuration).

The airplanes that were assigned to the wrong group configuration (Group 4 instead of Group 1) in Boeing Alert Service Bulletin 767-28A0090, dated July 3, 2008; or Boeing Service Bulletin 767-28A0090, Revision 1, dated April 1, 2010; and accomplished actions using either of those service bulletins need to do additional inspections to determine if certain MOV actuators for the fuel tanks are installed, and related investigative and corrective actions if necessary, in accordance with Boeing Service Bulletin 767-28A0090, Revision 2, dated September 2, 2010 (the new group configuration has more work packages than the old group configuration).

FAA's Determination and Requirements of the Proposed AD

We have evaluated all pertinent information and identified an unsafe condition that is likely to develop on other airplanes of the same type design. For this reason, we are proposing this AD, which would supersede AD 2009-22-13 and would retain the requirements of the existing AD. This proposed AD would also require, for certain airplanes, accomplishing the actions specified in the Boeing Service Bulletin 767-28A0090, Revision 2, dated September 2, 2010, described previously.

Costs of Compliance

There are about 398 airplanes of U.S. registry. The following table provides the estimated costs for U.S. operators to comply with this proposed AD.

Estimated Costs
Action | Labor cost | Parts cost | Cost per product | Cost on U.S. operators
Inspection for presence of MOV actuators (required by AD 2009-22-13) | Between 2 and 4 work-hours × $85 per hour = Between $170 and $340 | none | Between $170 and $340 | Between $67,660 and $135,320.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-16066 (74 FR 55755, October 29, 2009) and adding the following new AD:

The Boeing Company: Docket No. FAA-2011-0158; Directorate Identifier 2010-NM-118-AD.

Comments Due Date

(a) The FAA must receive comments on this AD action by April 28, 2011.

Affected ADs

(b) This AD supersedes AD 2009-22-13, Amendment 39-16066.

Applicability

(c) This AD applies to The Boeing Company Model 767-200, -300, -300F, and -400ER series airplanes, certificated in any category; as identified in Boeing Service Bulletin 767-28A0090, Revision 2, dated September 2, 2010.

Subject

(d) Air Transport Association (ATA) of America Code 28: Fuel.

Unsafe Condition

(e) This AD results from fuel system reviews conducted by the manufacturer. The Federal Aviation Administration is issuing this AD to prevent an ignition source inside the fuel tanks, which, in combination with flammable fuel vapors, could result in a fuel tank explosion and consequent loss of the airplane.

Compliance

(f) You are responsible for having the actions required by this AD performed within the compliance times specified, unless the actions have already been done.

Restatement of Requirements of AD 2009-22-13, With Revised Service Information

Inspection and Related Investigative/Corrective Actions

(g) For Model 767-200, -300, -300F, and -400ER series airplanes, as identified in Boeing Alert Service Bulletin 767-28A0090, dated July 3, 2008: Within 60 months after December 3, 2009 (the effective date of AD 2009-22-13), do the actions in paragraphs (g)(1) and (g)(2) of this AD.

(1) Inspect the motor operated valves (MOVs) in the main and center fuel tanks to determine if any MOV having part number (P/N) MA20A1001-1 is installed, in accordance with the Accomplishment Instructions of Boeing Alert Service Bulletin 767-28A0090, dated July 3, 2008; or Boeing Service Bulletin 767-28A0090, Revision 2, dated September 2, 2010. A review of airplane maintenance records is acceptable in lieu of this inspection if the part number can be conclusively determined from that review. After the effective date of this AD, only Revision 2 may be used.

(2) Do all applicable related investigative and corrective actions specified in and in accordance with the Accomplishment Instructions of Boeing Alert Service Bulletin 767-28A0090, dated July 3, 2008; or Boeing Service Bulletin 767-28A0090, Revision 2, dated September 2, 2010; except as provided by paragraph (h) of this AD. After the effective date of this AD, only Revision 2 may be used.

Alternative Part Numbers

(h) Where Boeing Alert Service Bulletin 767-28A0090, dated July 3, 2008; or Boeing Service Bulletin 767-28A0090, Revision 2, dated September 2, 2010; specifies replacing any actuator having P/N MA20A1001-1 with a new actuator having P/N MA30A1001, a serviceable actuator having any of the following part numbers is also acceptable as a replacement part: MA30A1001; MA20A2027 (S343T003-56); MA11A1265-1 (S343T003-41); or AV-31-1 (S343T003-111).

New Requirements of This AD

Inspection and Related Investigative/Corrective Actions for Additional Airplanes

(i) For airplanes that are identified in Boeing Service Bulletin 767-28A0090, Revision 2, dated September 2, 2010, but are not identified in paragraph (g) of this AD: Within 60 months after December 3, 2009, do the actions required by paragraph (g) of this AD in accordance with Boeing Service Bulletin 767-28A0090, Revision 2, dated September 2, 2010.

Revised Inspection and Related Investigative/Corrective Actions Instructions for Certain Airplanes

(j) For airplanes having variable numbers (VNs) VN921, VN922, and VN966 through VN972 inclusive, that accomplished the actions required in paragraph (g) of this AD before the effective date of this AD in accordance with Boeing Alert Service Bulletin 767-28A0090, dated July 3, 2008: Within 60 months after December 3, 2009, do the actions specified in paragraphs (j)(1) and (j)(2) of this AD.

(1) Inspect the motor operated valves (MOVs) in the main and center fuel tanks to determine if any MOV having part number (P/N) MA20A1001-1 is installed, in accordance with Work Packages 2, 3, 4, and 5 of the Accomplishment Instructions of Boeing Service Bulletin 767-28A0090, Revision 2, dated September 2, 2010. A review of airplane maintenance records is acceptable in lieu of this inspection if the part number can be conclusively determined from that review.

(2) Do all applicable related investigative and corrective actions specified in and in accordance with Work Packages 2, 3, 4, and 5 of the Accomplishment Instructions of Boeing Service Bulletin 767-28A0090, Revision 2, dated September 2, 2010; except as provided by paragraph (h) of this AD.

(k) For airplanes having VNs VF181 through VF184 inclusive that accomplished the actions required in paragraph (g) of this AD before the effective date of this AD in accordance with Boeing Alert Service Bulletin 767-28A0090, dated July 3, 2008; or Boeing Service Bulletin 767-28A0090, Revision 1, dated April 1, 2010: Within 60 months after December 3, 2009, do the actions in paragraphs (k)(1) and (k)(2) of this AD.

(1) Inspect the motor operated valves (MOVs) in the main and center fuel tanks to determine if any MOV having part number (P/N) MA20A1001-1 is installed, in accordance with Work Packages 2, 3, 4, and 5 of the Accomplishment Instructions of Boeing Service Bulletin 767-28A0090, Revision 2, dated September 2, 2010. A review of airplane maintenance records is acceptable in lieu of this inspection if the part number can be conclusively determined from that review.

(2) Do all applicable related investigative and corrective actions specified in and in accordance with Work Packages 2, 3, 4, and 5 of the Accomplishment Instructions of Boeing Service Bulletin 767-28A0090, Revision 2, dated September 2, 2010; except as provided by paragraph (h) of this AD.

Credit for Actions Accomplished in Accordance With Previous Service Information

(l) Actions done before the effective date of this AD in accordance with Boeing Service Bulletin 767-28A0090, Revision 1, dated April 1, 2010, are acceptable for compliance with the requirements of paragraphs (i) and (j) of this AD.

Alternative Methods of Compliance (AMOCs)

(m)(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be e-mailed to: 9-ANM-Seattle-ACO-AMOC-Requests@faa.gov.

(2) Before using any approved AMOC, notify your appropriate principal inspector, or lacking a principal inspector, the manager of the local flight standards district office/certificate holding district office.

(3) AMOCs approved previously for AD 2009-22-13 are approved as AMOCs for the corresponding provisions of this AD.

Related Information

(n) For more information about this AD, contact Douglas Bryant, Aerospace Engineer, Propulsion Branch, ANM-140S, FAA, Seattle ACO, 1601 Lind Avenue, SW., Renton, Washington 98057-3356; telephone 425-917-6505; fax 425-917-6590; e-mail: douglas.n.bryant@faa.gov.

(o) For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue, SW., Renton, Washington. For information on the availability of this material at the FAA, call 425-227-1221.

Issued in Renton, Washington, on March 4, 2011.
Kalene C. Yanamura,
Acting Manager, Transport Airplane Directorate, Aircraft Certification Service.

[FR Doc. 2011-5721 Filed 3-11-11; 8:45 am]

BILLING CODE 4910-13-P